DEPARTMENT OF TRANSPORTATION

Federal Transit Administration

Limitation on Claims Against Proposed Public Transportation Projects

AGENCY: Federal Transit Administration (FTA), Transportation (DOT).

ACTION: Notice.

SUMMARY: This notice announces final environmental actions taken by the Federal Transit Administration (FTA). The purpose of this notice is to announce publicly the environmental decisions by FTA on the subject project and to activate the limitation on any claims that may challenge these final environmental actions.

DATES: A claim seeking judicial review of FTA actions announced herein for the listed public transportation project will be barred unless the claim is filed on or before November 8, 2021.

FOR FURTHER INFORMATION CONTACT: Micah M. Miller, Regional Counsel, Office of Chief Counsel, (404) 865-5474 or Saadat Khan, Environmental Protection Specialist, Office of Environmental Programs, (202) 366-9647. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation project listed below. The actions on the project, as well as the laws under which such actions were taken, are described in the documentation issued in connection with the project to comply with the National Environmental Policy Act (NEPA) and in other documents in the FTA environmental project file for the project. Interested parties may contact either the project sponsor or the relevant FTA Regional Office for more information. Contact information for FTA's Regional Offices may be found at https://www.transit.dot.gov.

This notice applies to all FTA decisions on the listed project as of the issuance date of this notice and all laws under which such actions were taken, including, but not limited to, NEPA [42 U.S.C. 4321-4375], Section 106 of the National Historic Preservation Act [54 U.S.C. 306108], Endangered Species Act [16 U.S.C. 1531], and the Clean Air Act [42 U.S.C. 7401-7671q]. This notice does not, however, alter or extend the limitation period for challenges of project decisions subject to previous notices published in the Federal Register.

The project and actions that are the subject of this notice follow: Project name and location: Proposed Salem Avenue Transit Facility, City of Roanoke, Virginia. Project Sponsor: The Greater Roanoke Transit Company (GRTC) known also as “Valley Metro.” Project description: The project involves the redevelopment of an asphalt parking lot into a GRTC and Greyhound transit facility in downtown Roanoke, Virginia. The facility will have a pickup and drop-off entrance and exit along Salem Avenue, two main canopy waiting areas, a GRTC building, a Greyhound building, and multiple landscaped walkways and cross walks. Final agency action: Section 106 determination of no adverse effect concurrence, dated February 09, 2021; Determination of the applicability of a categorical exclusion pursuant to 23 CFR part 771.118(d), dated May 17, 2021. Supporting documentation: Documented Categorical Exclusion checklist and supporting materials, dated May 3, 2021.

Authority: 23 U.S.C. 139(l)(1).

Mark A. Ferroni,
Deputy Associate Administrator for Planning and Environment.

[FR Doc. 2021-11841 Filed 6-10-21; 8:45 am]

BILLING CODE P